ENVIRONMENTAL PROTECTION AGENCY

[FRL-6947-7]

Notice of Proposed Administrative Settlement Pursuant to the Comprehensive Environmental Response, Compensation, and Liability Act

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement concerning the BPS, Inc. Superfund Site, (“Site”) with BPS Pesticide Incorporated (“Settling Party”), the United States Environmental Protection Agency (“EPA”), and the United States Department of Justice (DOJ).

The settlement requires the Settling Party to reimburse EPA for Past Response Costs in the amount of $54,772.37 in connection with a response action at the Site.

Within 30 days of the effective date of this Agreement, and consistent with Paragraph 10 of the Settlement Agreement, the Settling Party shall pay to the EPA Hazardous Substance Superfund, $54,772.37 in reimbursement of Past Response Costs, plus an additional sum for Interest on that amount calculated from the date set forth in the definition of Past Response Costs through the date of payment.

The settlement includes a covenant not to sue under Section 107 of CERCLA, 42 U.S.C. 9607.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas, 75202-2733.

DATES: Comments must be submitted on or before March 30, 2001.

ADDRESSES: The proposed settlement and additional background information relating to the settlement are available for public inspection at 1445 Ross Avenue, Dallas, Texas, 75202-2733. A copy of the proposed settlement may be obtained from Barbara J. Aldridge (6SF-AC), U.S. Environmental Protection Agency, Region 6, 1445 Ross Avenue, Dallas, Texas, 75202-2733 at (214) 665-2712. Comments should reference the BPS, Inc. Superfund Site, West Helena, Arkansas, and EPA Docket Number 6-12-00, and should be addressed to Joseph E. Compton III at the address listed below.

FOR FURTHER INFORMATION CONTACT: Joseph E. Compton III, (6RC-S), U.S. Environmental Protection Agency, Region 6, 1445 Ross Avenue, Dallas, Texas, 75202-2733 at (214) 665-8506.

Dated: January 17, 2001.
Gregg A. Cooke,
Regional Administrator, Region 6.

[FR Doc. 01-4874 Filed 2-27-01; 8:45 am]

BILLING CODE 6560-50-P